DEPARTMENT OF HEALTH AND HUMAN SERVICES

Health Resources and Services Administration

Agency Information Collection Activities: Submission to OMB for Review and Approval; Public Comment Request; Information Collection Request Title: Health Workforce Connector, OMB No. 0906-xxxx—NEW

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than May 30, 2017.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Health Workforce Connector OMB No. 0906-xxxx—NEW

Abstract: The Health Workforce Connector is being developed to expand on the current National Health Service Corps (NHSC) Jobs Center, which includes positions approved for NHSC scholarship and loan repayment obligors. The new Health Workforce Connector will provide a central platform to connect participants in both the NHSC and NURSE Corps programs with facilities that are approved for performance of their NHSC or NURSE Corps service obligation. The Health Workforce Connector will become a resource that engages any health care professional or student interested in providing primary care services in underserved communities (whether or not those individuals are obligated to the NHSC or NURSE Corps) with facilities in need of health care providers. The Health Workforce Connector will also allow users to create a profile, search for NHSC and NURSE Corps sites, find job opportunities, and will be searchable by Site Points of Contact. Like the current NHSC Jobs Center, individuals will be able to use the Health Workforce Connector's search capability with Google Maps.

Need and Proposed Use of the Information: Information will be collected from users in the following two ways:

(1) Account Creation: Creating an account is optional, but to create an account, the user will be required to enter their first name, last name, and email address. Those are the only mandatory fields in the profile account creation process and will be used to send an automated email allowing the user to validate their login credentials. This information will also be used to validate any users who already exist within the Bureau of Health Workforce Management Information Systems Solution (BMISS) database and allow an initial import of existing data at the request of the user.

(2) Profile Completion: Users may fill out a profile, but this function will be completely optional and will include fields such as location, discipline, specialty, and languages spoken. The information collected, if `published' by the user, will allow internal BMISS Site Points of Contact the ability to search on anyone who may be a potential candidate for job opportunities at the site. All information collected will be stored within existing secure BMISS databases and will be used internally for report generation on an as-needed basis.

Likely Respondents: Potential users will include individuals searching for a health care job opportunity or an NHSC or NURSE Corps health care facility, and health care facilities searching for potential candidates to fill open health care job opportunities at their sites.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Account Creation | 15,600 | 1 | 15,600 | .08 | 1,248
Complete Profile | 9,400 | 1 | 9,400 | 1 | 9,400
Total | *15,600 | — | 15,600 | — | 10,648
* The 9,400 respondents who complete their profiles are a subset of the 15,600 respondents who create accounts.

Jason E. Bennett,
Director, Division of the Executive Secretariat.

[FR Doc. 2017-08584 Filed 4-27-17; 8:45 am]

BILLING CODE 4165-15-P